DEPARTMENT OF COMMERCE

International Trade Administration

[A-570-056, A-552-821]

Certain Tool Chests and Cabinets From the People's Republic of China and the Socialist Republic of Vietnam: Final Results of the Expedited Sunset Reviews of the Antidumping Duty Orders

AGENCY: Enforcement and Compliance, International Trade Administration, Department of Commerce.

SUMMARY: As a result of these expedited sunset reviews, the U.S. Department of Commerce (Commerce) finds that revocation of the antidumping duty (AD) orders on certain tool chests and cabinets (tool chests and cabinets) from the People's Republic of China (China) and the Socialist Republic of Vietnam (Vietnam) would be likely to lead to continuation or recurrence of dumping at the level indicated in the “Final Results of Sunset Reviews” section of this notice.

DATES: Applicable March 14, 2023.

FOR FURTHER INFORMATION CONTACT: Claudia Cott, AD/CVD Operations, Office I, Enforcement and Compliance, International Trade Administration, U.S. Department of Commerce, 1401 Constitution Avenue NW, Washington, DC 20230; telephone: (202) 482-4270.

SUPPLEMENTARY INFORMATION:

Background

On June 4, 2018, Commerce published in the Federal Register the AD orders on tool chests from China and Vietnam.¹ On December 1, 2022, Commerce published the Initiation Notice of the five-year sunset reviews of the Orders pursuant to section 751(c) of the Tariff Act of 1930, as amended (the Act).² In accordance with 19 CFR 351.218(d)(1)(i) and (ii), Commerce received notices of intent to participate in these sunset reviews from Stanley Black & Decker (the domestic interested party) within 15 days after the date of publication of the Initiation Notice.³ The domestic interested party claimed interested party status under section 771(9)(C) of the Act as a producer of a domestic like product in the United States.⁴

¹ See Certain Tool Chests and Cabinets from the People's Republic of China and the Socialist Republic of Vietnam: Antidumping Duty Orders, 83 FR 25645 (June 4, 2018) (collectively, Orders).

² See Initiation of Five-Year (Sunset) Reviews, 87 FR 73757 (December 1, 2022) (Initiation Notice).

³ See Domestic Interested Party's Letters, “Five Year (“Sunset”) Review of the Antidumping Duty Order on Tool Chests and Cabinets from China—Domestic Interested Party's Notice of Intent to Participate,” dated December 15, 2022; see also “Five Year (“Sunset”) Review of the Antidumping Duty Order on Tool Chests and Cabinets from Vietnam—Domestic Interested Party's Notice of Intent to Participate,” dated December 15, 2022 (Notices of Intent to Participate). The petitioner in the underlying investigation, Waterloo Industries Inc. (Waterloo), was acquired by Stanley Black & Decker Corporation on July 28, 2017, and now operates under the Stanley Black & Decker name.

⁴ Id.

Commerce received timely, adequate substantive responses to the Initiation Notice from the domestic interested party within the 30-day period specified in 19 CFR 351.218(d)(3)(i).⁵ We did not receive substantive responses from any other interested parties.

⁵ See Domestic Interested Party's Letters, “Five Year (“Sunset”) Review of the Antidumping Duty Order on Tool Chests and Cabinets from China—Domestic Interested Party's Substantive Response,” dated January 3, 2023 (China Substantive Response); see also “Five Year (“Sunset”) Review of the Antidumping Duty Order on Tool Chests and Cabinets from Vietnam—Domestic Interested Party's Substantive Response,” dated January 3, 2023 (Vietnam Substantive Response).

On January 25, 2023, Commerce notified the U.S. International Trade Commission (ITC) that it did not receive an adequate substantive response from other interested parties.⁶ As a result, in accordance with section 751(c)(3)(B) of the Act and 19 CFR 351.218(e)(1)(ii)(C)(2), Commerce conducted expedited, i.e., 120-day sunset reviews of the Orders.

⁶ See Commerce's Letter, “Sunset Reviews Initiated December 1, 2022,” dated January 25, 2023.

Scope of the Orders

The products covered by these Orders are certain metal tool chests and tool cabinets, with drawers, from China and Vietnam. The scope covers all metal tool chests and cabinets, including top chests, intermediate chests, tool cabinets and side cabinets, storage units, mobile work benches, and work stations and that have the following physical characteristics:

(1) A body made of carbon, alloy, or stainless steel and/or other metals;

(2) two or more drawers for storage in each individual unit;

(3) a width (side to side) exceeding 15 inches for side cabinets and exceeding 21 inches for all other individual units but not exceeding 60 inches;

(4) a body depth (front to back) exceeding 10 inches but not exceeding 24 inches; and

(5) prepackaged for retail sale.

For purposes of this scope, the width parameter applies to each individual unit, i.e., each individual top chest, intermediate top chest, tool cabinet, side cabinet, storage unit, mobile work bench, and work station. Merchandise subject to these Orders is classified under HTSUS categories 9403.20.0021, 9403.20.0026, 9403.20.0030, 9403.20.0080, 9403.20.0090, and 7326.90.8688, but may also be classified under HTSUS category 7326.90.3500. While HTSUS subheadings are provided for convenience and Customs purposes, the written description of the scope of these Orders is dispositive.

A full description of the scope of the Orders is contained in the Issues and Decision Memorandum.⁷

⁷ See Memorandum, “Issues and Decision Memorandum for the Expedited Sunset Reviews of the Antidumping Duty Orders on Certain Tool Chests and Cabinets from the People's Republic of China, and the Socialist Republic of Vietnam,” dated concurrently with, and hereby adopted by, this notice (Issues and Decision Memorandum).

Analysis of Comments Received

All issues raised in these sunset reviews are addressed in the Issues and Decision Memorandum, including the likelihood of continuation or recurrence of dumping and the magnitude of the margins of dumping likely to prevail if the Orders were revoked.⁸ A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁸ Id.

Final Results of Sunset Reviews

Pursuant to sections 751(c)(1) and 752(c)(1) and (3) of the Act, Commerce determines that revocation of the Orders would be likely to lead to continuation or recurrence of dumping and that the magnitude of the margins of dumping likely to prevail would be at a rate up to 244.29 percent for China, and up to 327.17 percent for Vietnam.

Administrative Protective Order

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

Commerce is issuing and publishing these final results and notice in accordance with sections 751(c), 752(c), and 777(i)(1) of the Act, and 19 CFR 351.221(c)(5)(ii).

Dated: March 8, 2023.
Lisa W. Wang,
Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of Margin of Dumping Likely to Prevail

VII. Final Results of Expedited Sunset Reviews

VIII. Recommendation

[FR Doc. 2023-05170 Filed 3-13-23; 8:45 am]

BILLING CODE 3510-DS-P